DEPARTMENT OF TRANSPORTATION

Federal Aviation Administration

14 CFR Part 71

[Docket No. FAA-2022-0827; Airspace Docket No. 21-AEA-12]

RIN 2120-AA66

Amendment and Revocation of Air Traffic Service (ATS) Routes; Eastern United States

AGENCY: Federal Aviation Administration (FAA), DOT.

ACTION: Final rule; correction.

SUMMARY: This action corrects a final rule published by the FAA in the Federal Register on September 8, 2022, that amended jet routes J-14, J-24, J-52, and J-68; and removed jet routes J-165, J-207, J-506, J-561, J-563, J-573, J-582, and J-585. The final rule inadvertently re-inserted a segment in J-52 that had been removed by a previous rulemaking action. This action makes an editorial correction to the description of J-52 to remove the incorrect route segment.

DATES: Effective date 0901 UTC, November 3, 2022. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

History

The FAA published a final rule (87 FR 54880; September 8, 2022) effective on November 3, 2022, that included an amendment of jet route J-52. The rule inadvertently re-inserted the route segment “Liberal, KS, INT Liberal 137° and Ardmore, OK 309° radials” in the J-52 description that had been removed as published in an earlier action (87 FR 38916; June 30, 2022) which became effective on September 8, 2022.

This rule corrects that error by removing the route segment and editing the J-52 route description accordingly.

Jet routes are published in paragraph 2004 of FAA Order JO 7400.11G, dated August 19, 2022, and effective September 15, 2022 which is incorporated by reference in 14 CFR 71.1. The ATS route listed in this document will be published subsequently in FAA Order JO 7400.11.

Correction to Final Rule

Accordingly, pursuant to the authority delegated to me, the description of jet route J-52, published in the Federal Register of September 8, 2022 (87 FR 54880), FR Doc. 2022-19287, is corrected as follows:

1. On page 54882, in the first column, correct the description of J-52 to read as follows:

J-52 [Corrected]

From Vancouver, BC, Canada; via Spokane, WA; Salmon, ID; Dubois, ID; Rock Springs, WY; Falcon, CO; Hugo, CO; to Lamar, CO. From Ardmore, OK; Texarkana, AR; to Sidon, MS. The portion within Canada is excluded.

Issued in Washington, DC, on September 13, 2022.
Scott M. Rosenbloom,
Manager, Airspace Rules and Regulations.

[FR Doc. 2022-20202 Filed 9-19-22; 8:45 am]

BILLING CODE 4910-13-P